DEPARTMENT OF THE INTERIOR

National Park Service

[NPS-WASO-NAGPRA-NPS0035906; PPWOCRADN0-PCU00RP14.R50000]

Notice of Intent To Repatriate Cultural Items: Tennessee Department of Environment and Conservation, Nashville, TN

AGENCY: National Park Service, Interior.

ACTION: Notice.

SUMMARY: In accordance with the Native American Graves Protection and Repatriation Act (NAGPRA), the Tennessee Department of Environment and Conservation (TDEC-DOA) intends to repatriate certain cultural items that meet the definition of unassociated funerary objects and that have a cultural affiliation with the Indian Tribes or Native Hawaiian organizations in this notice. The cultural items were removed from Madison, Obion, and Perry Counties, TN.

DATES: Repatriation of the cultural items in this notice may occur on or after June 23, 2023.

ADDRESSES: Phillip R. Hodge, Tennessee Department of Environment and Conservation, Division of Archaeology, 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-DOA. The National Park Service is not responsible for the determinations in this notice. Additional information on the determinations in this notice, including the results of consultation, can be found in the summary or related records held by the TDEC-DOA.

Description

In 1963, 1981, and 1983, archeologists with the TDEC-DOA removed 68 cultural items from site 40MD1 in Madison County, TN. The 68 unassociated funerary object include 46 lots of fragmentary artifacts from burial fill consisting of copper, fiber matting, fibrous material, unidentified organic material, cane-impressed clay and daub, charcoal samples, burned wood, unidentified bones, lithic debitage, burned sandstone, siltstone, fire cracked rock, mica, faunal bones, and shells; 12 lots of fragmentary artifacts from features interpreted to be cremations consisting of lithic debitage, sandstone, quartz crystal flakes, mica, ceramic sherds, unidentifiable bones and charcoal; four lots consisting of lithic debitage, chipped stone tool fragments, sandstone, quartz crystal flakes, mica, ceramic sherds, unidentifiable bones, charcoal, and soil fragments with impressed cane matting; one lot consisting of burned sandstone; one lot consisting of pearl and shell beads from Mound 6; two lots of fragmentary artifacts from features interpreted to be cremations consisting of unidentifiable bone fragments and stone from Mound 12; one lot of fragmentary artifacts from burial fill consisting of lithic debitage, burned sandstone, and ceramic sherds; and one lot consisting of charcoal and burned organic material from a cremation feature in Mound 31.

In 1985, archeologists with Arrow Enterprises of Bowling Green, KY, working under contract to the U.S. Soil Conservation Service, removed 43 cultural items from site 40OB6 in Obion County, TN. The 43 unassociated funerary objects include eight lots of artifacts from burial fill consisting of lithic debitage, fire cracked rock, sandstone, shell fragments, ceramic sherds, burned clay fragments, and unidentifiable calcined bone fragments; 34 lots of artifacts from general mound fill consisting of lithic debitage, fire cracked rock, fragmentary chipped stone tools, sandstone, pebbles, ceramic sherds, burned clay fragments, charcoal, shells, and faunal bones; and one lot consisting of unprocessed soil samples from mound contexts.

Between 1972 and 1976, archeologists with then Memphis State University removed eight cultural items from site 40PY207 in Perry County, TN. The eight unassociated funerary objects include one lot consisting of commingled dog skeletal remains belonging to three dogs and seven lots of burial fill consisting of lithic debitage, fragmentary faunal materials, shells, fire cracked rock, daub, and stone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the TDEC-DOA has determined that:

• The 119 cultural items described above are reasonably believed to have been placed with or near individual human remains at the time of death or later as part of the death rite or ceremony and are believed, by a preponderance of the evidence, to have been removed from specific burial sites of Native American individuals.

• There is a relationship of shared group identity that can be reasonably traced between the cultural items and the Cherokee Nation; Eastern Band of Cherokee Indians; The Chickasaw Nation; and the United Keetoowah Band of Cherokee Indians in Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 23, 2023. If competing requests for repatriation are received, the TDEC-DOA must determine the most appropriate requestor prior to repatriation. Requests for joint repatriation of the cultural items are considered a single request and not competing requests. The TDEC-DOA is responsible for sending a copy of this notice to the Indian Tribes identified in this notice.

Authority: Native American Graves Protection and Repatriation Act, 25 U.S.C. 3003, and the implementing regulations, 43 CFR 10.8, 10.10, and 10.14.

Dated: May 17, 2023.
Melanie O'Brien,
Manager, National NAGPRA Program.

[FR Doc. 2023-11011 Filed 5-23-23; 8:45 am]

BILLING CODE 4312-52-P